ENVIRONMENTAL PROTECTION AGENCY

[FRL OP-OFA-086]

Environmental Impact Statements; Notice of Availability

Responsible Agency: Office of Federal Activities, General Information 202-564-5632 or https://www.epa.gov/nepa.

Weekly receipt of Environmental Impact Statements (EIS)

Filed September 1, 2023 10 a.m. EST Through September 11, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230117, Draft, GSA, IL, Draft Environmental Impact Statement, The Buildings at 202, 214, and 220 South State Street, Chicago, Illinois, Comment Period Ends: 10/31/2023, Contact: Joseph Mulligan 312-886-9593.

EIS No. 20230118, Final, FHWA, IN, Mid-States Corridor Tier 1, Contact: Michelle Herrell 317-226-5630.

Pursuant to 23 U.S.C. 139(n)(2), FHWA has issued a single FEIS and ROD. Therefore, the 30-day wait/review period under NEPA does not apply to this action.

EIS No. 20230119, Final, BLM, NV, Gibellini Vanadium Mine Project, Review Period Ends: 10/16/2023, Contact: Scott Distel 775-635-4093.

EIS No. 20230120, Final, BOEM, NY, Empire Offshore Wind, Review Period Ends: 10/16/2023, Contact: Brandi Sangunett 703-787-1015.

EIS No. 20230121, Final, DOI, CO, Colorado Gray Wolf 10(j) Rulemaking, Review Period Ends: 10/16/2023, Contact: Liisa Niva 303-236-4779.

Dated: September 11, 2023.
Cindy S. Barger,
Director, NEPA Compliance Division, Office of Federal Activities.

[FR Doc. 2023-19985 Filed 9-14-23; 8:45 am]

BILLING CODE 6560-50-P